DEPARTMENT OF COMMERCE

National Oceanic and Atmospheric Administration

50 CFR Part 679

[Docket No. 010914227-2063-02; I.D. 080201E]

RIN 0648-AM40

Fisheries of the Exclusive Economic Zone Off Alaska; License Limitation Program; Correction

AGENCY: National Marine Fisheries Service (NMFS), National Oceanic and Atmospheric Administration (NOAA), Commerce.

ACTION: Final rule; correction.

SUMMARY: This document contains a correction to the regulatory text of the final rule published on April 15, 2002. The final rule implemented Amendment 67 to the Fishery Management Plan for the Groundfish Fishery of the Bering Sea and Aleutian Islands Area (FMP).

DATES: Effective August 14, 2002.

FOR FURTHER INFORMATION CONTACT: Patsy A. Bearden, 907-586-7008.

SUPPLEMENTARY INFORMATION: As published, the April 15, 2002 (67 FR 18129) final rule, which implements Amendment 67 to the FMP, contains a paragraph designation error and must be corrected.

Classification

The Assistant Administrator for Fisheries, NOAA, finds good cause to waive the requirement to provide prior notice and opportunity for public comment under the authority set forth at 5 U.S.C. 553(b)(3)(B). The rationale for this finding is that prior notice and comment are unnecessary under the Administrative Procedure Act because the correction of a paragraph designation will have no substantive effect on the regulated public. Prior notice and comment would be contrary to the public interest because it would prolong the inaccurate paragraph designation that currently exists in the regulations. Therefore, the Assistant Administrator for Fisheries, NOAA, waives the 30-day delay in effective date under 5 U.S.C. 553(d).

Correction

Accordingly, the publication on April 15, 2002 (67 FR 18129, FR Doc. 02-8961), is corrected as follows:

On page 18138, column 3, in § 679.4, paragraph (k)(9)(iii)(G), correct the paragraph designation “679.4(k)(iii)(D)” to read “679.4(k)(9)(iii)(D)”.

Dated: August 9, 2002.
Rebecca Lent,
Deputy Assistant Administrator for Regulatory Programs, National Marine Fisheries Service.

[FR Doc. 02-20735 Filed 8-14-02; 8:45 am]

BILLING CODE 3510-22-S